ENVIRONMENTAL PROTECTION AGENCY

40 CFR Part 52

[EPA-R09-OAR-2016-0740; FRL-9970-93-Region 9]

Approval of California Air Plan Revisions, Sacramento Metropolitan Air Quality Management District

AGENCY: Environmental Protection Agency (EPA).

ACTION: Final rule.

SUMMARY: The Environmental Protection Agency (EPA) is taking final action to approve a revision to the Sacramento Metropolitan Air Quality Management District (SMAQMD) portion of the California State Implementation Plan (SIP). This revision concerns volatile organic compound (VOC) emissions from Organic Chemical Manufacturing Operations. We are proposing to simultaneously approve a local rule and a rule rescission to regulate these emission sources under the Clean Air Act (CAA or the Act).

DATES: This rule is effective on January 3, 2018.

ADDRESSES: The EPA has established a docket for this action under Docket ID No. EPA-R09-OAR-2016-0740. All documents in the docket are listed on the https://www.regulations.gov Web site. Although listed in the index, some information is not publicly available, e.g., Confidential Business Information (CBI) or other information whose disclosure is restricted by statute. Certain other material, such as copyrighted material, is not placed on the Internet and will be publicly available only in hard copy form. Publicly available docket materials are available through https://www.regulations.gov, or please contact the person identified in the FOR FURTHER INFORMATION CONTACT section for additional availability information.

FOR FURTHER INFORMATION CONTACT: Arnold Lazarus, EPA Region IX, (415) 972-3024, lazarus.arnold@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On January 15, 2016 (81 FR 2136) the EPA proposed to partially approve and partially disapprove SMAQMD's SIP revision to address Reasonably Available Control Technology (RACT) requirements for the 1997 8-hour ozone National Ambient Air Quality Standards (NAAQS) based in part on our conclusion that the submittal did not satisfy the CAA section 182 requirements for RACT pertaining to pharmaceutical manufacturing operations. On August 12, 2016 we finalized our partial approval and partial disapproval and stated that sanctions would be imposed under CAA section 179 and 40 CFR 52.31 unless the EPA approved SIP revisions correcting this deficiency within 18 months of the effective date of our final rulemaking action.

On April 28, 2106 the SMAQMD repealed Rule 455, Pharmaceutical Manufacturing, and amended Rule 464, Organic Chemical Manufacturing Operations, to address the VOC RACT deficiencies. On August 22, 2016 the California Air Resources Board submitted these rules to the EPA for SIP approval and the EPA proposed to approve them into the California SIP on July 19, 2017 (82 FR 33030). Table 1 below summarizes the submittal timeline.

Table 1—Submitted Rules
Local agency | Rule No. | Rule title | Amended | Repealed | Submitted
SMAQMD | 455 | Pharmaceuticals Manufacturing |  | 4/28/16 | 8/22/16
SMAQMD | 464 | Organic Chemical Manufacturing Operations | 4/28/16 |  | 8/22/16

We proposed to approve these revisions because we determined that they correct the identified RACT deficiencies for the pharmaceuticals manufacturing category and comply with the relevant CAA requirements. Our proposed action contains more information on the rule and our evaluation.

II. Public Comments and EPA Responses

The EPA's proposed action provided a 30-day public comment period. During this period, we received no comments.

III. EPA Action

No comments were submitted. Therefore, as authorized in section 110(k)(3) of the Act, the EPA is fully approving Rule 464 and rescinding Rule 455. Please see the docket for a copy of the complete submitted documents. Final approval satisfies California's obligation, under CAA section 182 for the 1997 8-hour ozone NAAQS, to implement RACT in the SMAQMD for the following control techniques guidelines VOC categories:

a. “Control of Volatile Organic Compound Emissions from Reactor Processes and Distillation Operations Processes in the Synthetic Organic Chemical Manufacturing Industry,” EPA-450/4-91-031, August 1993.

b. “Control of Volatile Organic Compound Emissions from Manufacture of Synthesized Pharmaceutical Products,” EPA-450/2-78-029, December 1978.

Our August 12, 2016 partial disapproval of SMAQMD's RACT SIP demonstration for the 1997 NAAQS also stated that a SIP submittal in the form of a rule or permit provision was required to implement VOC RACT for the Kiefer Landfill, a major VOC source. We are taking a separate action elsewhere in today's Federal Register to fully approve into the SIP operating permits for landfill gas flaring at the Kiefer Landfill. Our final approval of both the Kiefer Landfill operating permits and Rule 464 will terminate both the sanctions clocks and the federal implementation plan clock associated with our August 12, 2016 partial disapproval of SMAQMD's RACT SIP.

IV. Incorporation by Reference

In this rule the EPA is finalizing regulatory text that includes incorporation by reference. In accordance with requirements of 1 CFR 51.5, the EPA is finalizing the incorporation by reference of the SMAQMD rules described in the amendments to 40 CFR part 52 set forth below. The EPA has made, and will continue to make, these documents available through www.regulations.gov and at the EPA Region IX Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 2, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: November 6, 2017.
Alexis Strauss,
Acting Regional Administrator, Region IX.

Part 52, Chapter I, Title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(154)(iii)(D) and (c)(488)(i)(C) to read as follows:

§ 52.220 Identification of plan-in part.

* * * * *

(c) * * *

(154) * * *

(iii) * * *

(D) Rule 455, previously approved on January 24, 1985 in paragraph (c)(154)(iii)(B) of this section, is deleted with replacement in (c)(488)(i)(C)(1).

* * * * *

(488) * * *

(i) * * *

(C) Sacramento Metropolitan Air Quality Management District.

(1) Rule 464, “Organic Chemical Manufacturing Operations,” amended on April 28, 2016.

* * * * *

[FR Doc. 2017-25929 Filed 12-1-17; 8:45 am]

BILLING CODE 6560-50-P